DEPARTMENT OF HOMELAND SECURITY

Coast Guard

33 CFR Part 100

[CGD05-04-144]

RIN 1625-AA08

Special Local Regulations for Marine Events; Delaware River, Philadelphia, PA

AGENCY: Coast Guard, DHS.

ACTION: Notice of implementation of regulation.

SUMMARY: The Coast Guard is implementing the special local regulations at 33 CFR 100.509 during the Labor Day Fireworks Show to be held September 6, 2004, on the Delaware River at Philadelphia, Pennsylvania. These special local regulations are necessary to provide for the safety of life on navigable waters before, during and after the event. The effect will be to restrict general navigation in the regulated area for the safety of spectators and support vessels in the event area.

DATES: 33 CFR 100.509 will be enforced from 7:30 p.m. to 9 p.m. e.d.t. on September 6, 2004.

FOR FURTHER INFORMATION CONTACT: Fernando Serrano, Marine Information Specialist, Commander, Coast Guard Group Philadelphia, 1 Washington Avenue, Philadelphia, Pennsylvania 19147, (215) 271-4944.

SUPPLEMENTARY INFORMATION: The Penn's Landing Corporation will sponsor the “Labor Day Fireworks Show” on September 6, 2004, on the Delaware River, adjacent to Penn's Landing, Philadelphia, Pennsylvania. In order to ensure the safety of participants, spectators and transiting vessels, 33 CFR 100.509 will be enforced for the duration of the event. The special local regulations will be enforced from 7:30 p.m. to 9 p.m. e.d.t. on September 6, 2004. The pyrotechnic display will be launched from 1 barge located within the regulated area. Under provisions of 33 CFR 100.509, a vessel may not enter the regulated area unless it receives permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: August 3, 2004.
Sally Brice-O'Hara,
Rear Admiral, U.S. Coast Guard, Commander, Fifth Coast Guard District.

[FR Doc. 04-18475 Filed 8-11-04; 8:45 am]

BILLING CODE 4910-15-P